NUCLEAR REGULATORY COMMISSION

10 CFR Parts 50 and 52

[NRC-2023-0088]

Regulatory Guide: Qualification of Safety-Related Actuators in Production and Utilization Facilities

AGENCY: Nuclear Regulatory Commission.

ACTION: Final guide; issuance.

SUMMARY: The U.S. Nuclear Regulatory Commission (NRC) is issuing Revision 2 to Regulatory Guide (RG) 1.73, “Qualification of Safety-Related Actuators in Production and Utilization Facilities.” This RG describes an approach that is acceptable to the staff of the NRC to meet regulatory requirements for the qualification of safety-related actuators for production and utilization facilities.

DATES: Revision 2 to RG 1.73 is available on January 26, 2024.

ADDRESSES: Please refer to Docket ID NRC-2023-0088 when contacting the NRC about the availability of information regarding this document. You may obtain publicly available information related to this document using any of the following methods:

• Federal Rulemaking Website: Go to https://www.regulations.gov and search for Docket ID NRC-2023-0088. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 2 to RG 1.73 and the regulatory analysis may be found in ADAMS under Accession Nos. ML23198A311 and ML23055B028, respectively.

Regulatory guides are not copyrighted, and NRC approval is not required to reproduce them.

FOR FURTHER INFORMATION CONTACT: Amir Mobasheran, Office of Nuclear Regulatory Research, telephone: 301-415-8112; email: Amir.Mobasheran@nrc.gov and Kayleh Hartage, Office of Nuclear Reactor Regulation, telephone: 301-415-3563; email: Kayleh.Hartage@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

The proposed Revision 2 to RG 1.73 was issued with a temporary identification of Draft Regulatory Guide, (DG)-1386 (ADAMS Accession No. ML23055B024). This revision endorses, with exceptions, additions, and clarifications, the methods described in the Institute of Electrical and Electronics Engineers (IEEE) Standard (Std.) 382-2019, “IEEE Standard for Qualification of Safety-Related Actuators for Nuclear Power Generating Stations and Other Nuclear Facilities.”

II. Additional Information

The NRC published notice of the availability of DG-1386 in the Federal Register on May 22, 2023 (88 FR 32693), for a 30-day public comment period. The public comment period closed on June 21, 2023. Public comments on DG-1386 and the staff responses to the public comments are available under ADAMS under Accession No. ML23198A312.

As noted in the Federal Register on December 9, 2022 (87 FR 75671), this document is being published in the “Rules” section of the Federal Register to comply with publication requirements under 1 CFR chapter I.

III. Congressional Review Act

This RG is a rule as defined in the Congressional Review Act (5 U.S.C. 801-808). However, the Office of Management and Budget has not found it to be a major rule as defined in the Congressional Review Act.

IV. Backfitting, Forward Fitting, and Issue Finality

Issuance of RG 1.73 Revision 2, would not constitute backfitting as defined in § 50.109 of title 10 of the Code of Federal Regulations (10 CFR), “Backfitting,” and as described in NRC Management Directive (MD) 8.4, “Management of Backfitting, Forward Fitting, Issue Finality, and Information Requests”; affect issue finality of any approval issued under 10 CFR part 52, “Licenses, Certificates, and Approvals for Nuclear Power Plants”; or constitute forward fitting as defined in MD 8.4, because, as explained in this RG, licensees would not be required to comply with the positions set forth in this RG.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: January 22, 2024.
For the Nuclear Regulatory Commission.
Meraj Rahimi,
Chief, Regulatory Guide and Programs Management Branch, Division of Engineering, Office of Nuclear Regulatory Research.

[FR Doc. 2024-01540 Filed 1-25-24; 8:45 am]

BILLING CODE 7590-01-P